DEPARTMENT OF COMMERCE

National Oceanic and Atmospheric Administration

50 CFR Part 230

[Docket No. 001120325-1290-03, I.D. 111901B]

Whaling Provisions: Aboriginal Subsistence Whaling Quotas

AGENCY: National Marine Fisheries Service (NMFS), National Oceanic and Atmospheric Administration (NOAA), Commerce.

ACTION: Aboriginal subsistence whaling quota.

SUMMARY: NMFS announces a 2001-2002 aboriginal subsistence whaling quota for gray whales of five gray whales landed. This quota and other management provisions govern the harvest of gray whales by members of the Makah Indian Tribe (Tribe).

DATES: Effective for 1 year beginning December 12, 2001.

ADDRESSES: Office of Protected Resources, National Marine Fisheries Service, 1315 East West Highway, Silver Spring, MD 20910.

FOR FURTHER INFORMATION CONTACT: Chris Yates, (301) 713-2322.

SUPPLEMENTARY INFORMATION: Aboriginal subsistence whaling in the United States is governed by the Whaling Convention Act (16 U.S.C. 916 et seq.) and by regulations at 50 CFR part 230. The rules require the Secretary of Commerce to publish, at least annually, aboriginal subsistence whaling quotas and any other limitations on aboriginal subsistence whaling deriving from regulations of the International Whaling Commission (IWC).

At the 1997 Annual Meeting of the IWC, the Commission set quotas for aboriginal subsistence use of gray whales from the Eastern stock in the North Pacific. This action by the IWC, thus, authorized aboriginal subsistence whaling by the Tribe for gray whales and is discussed in greater detail in the Federal Register notification of aboriginal subsistence whaling quotas for 1999 (64 FR 28413, May 26, 1999).

On June 9, 2000, the United States Court of Appeals for the Ninth Circuit ruled that the Department of Commerce’s environmental assessment (EA) under the National Environmental Policy Act (NEPA) should have been completed before entering into a cooperative agreement with the Makah Tribe. The Court ordered the agency to prepare a new NEPA document under circumstances that would ensure an objective evaluation of the environmental consequences of the gray whale harvest.

NOAA set the 2000 quota at zero (65 FR 75186, December 1, 2000) and set the 2001 quota at zero (66 FR 14862, March 14, 2001) pending completion of the NEPA analysis.

NOAA completed a draft EA on January 12, 2001, and solicited public comments. A final EA was issued on July 12, 2001, and selected a preferred alternative allowing the take of up to five whales per year for the years 2001 and 2002. Following the completion of this EA, NOAA and the Tribe entered into a cooperative agreement governing the conduct of the hunt.

The agreement provides that the Makah Tribal Council, in cooperation with NOAA, will manage the gray whale hunts under the 1997 IWC quota and the aboriginal subsistence whaling regulations set forth at 50 CFR Part 230, and details inspection and reporting requirements and enforcement procedures. In addition, the Council will license and regulate Tribal whalers, according to the Management Plan for Makah Treaty Gray Whale Hunting for the Years 1998-2002, as amended by Council Resolution No. 57-01 on May 30, 2001.

Dated: December 7, 2001.
William T. Hogarth,
Assistant Administrator for Fisheries, National Marine Fisheries Service.

[FR Doc. 01-30827 Filed 12-12-01; 8:45 am]

BILLING CODE 3510-22-S